DEPARTMENT OF ENERGY

Federal Energy Regulatory Commission

[Docket No. CP02-32-000]

Texas Eastern Transmission, LP; Notice of Application

December 7, 2001.

Take notice that on November 28, 2001, Texas Eastern Transmission, LP (Texas Eastern), 5400 Westheimer Court, Houston, Texas 77056-5310, filed in the captioned docket an application for a certificate of public convenience and necessity and related authorizations pursuant to section 7 of the Natural Gas Act (NGA), as amended, and the Commission's Rules and Regulations thereunder. Texas Eastern requests the following:

(i) A certificate of public convenience and necessity to construct, install, own, operate and maintain certain facilities, known as the Texas Eastern Incremental Market Expansion Project (TIME Project), necessary to provide 100,000 dekatherms per day (Dth/d) of firm natural gas transportation service to New Jersey Natural Gas Company (New Jersey Natural);

(ii) authorization to establish an initial NGA section 7(c) recourse rate using the incremental facilities proposed, as described in the application; and

(iii) other waivers, authorities, and relief as may be proper as appropriate to implement the proposal;

all as more thoroughly described in the application on file with the Commission and open to public inspection. This filing may be viewed on the web at http://www.ferc.gov using the “RIMS” link, select “Docket#” and follow the instructions (please call (202) 208-2222 for assistance).

Texas Eastern is requesting that the Commission issue a preliminary determination by March 13, 2002 and a final certificate by June 12, 2002 to enable Texas Eastern to meet New Jersey Natural's in-service date of November 1, 2002.

The name, address, and telephone number of the person to whom correspondence and communications concerning this Application should be addressed is: Steven E. Tillman, Director of Regulatory Affairs, Texas Eastern Transmission, LP, P.O. Box 1642, Houston, Texas 77251-1642, Phone: (713) 627-5113, Fax: (713) 627-5947.

Texas Eastern proposes to: (i) Construct, install, own, operate, and maintain a new 10,000 HP electric driven compressor unit at the existing Lambertville Compressor Station in Hunterdon County, New Jersey; (ii) construct, own, operate, and maintain four new segments of 36-inch diameter pipeline loops in Perry, Lebanon, Berks, and Bucks counties, Pennsylvania, totaling approximately 15.8 miles; (iii) perform compression uprates of 8,600 horsepower, from 13,400 to 22,000 horsepower, at each of two existing compressor stations, the Entriken in Huntingdon County, Pennsylvania, and the Armagh Indiana County, Pennsylvania; and (iv) upgrade the existing meter and regulation station M&R No. 70058 in Richmond County, New York, to accommodate the increased flow at this location.

Additionally, Texas Eastern seeks authorization to render the new firm transportation service pursuant to Texas Eastern's existing Firm Rate Schedule FT-1. Texas Eastern's proposed initial FT-1 recourse rate is an incremental reservation rate designed to recover all costs associated with the new facilities, estimated to be $75.2 Million. Texas Eastern states that Texas Eastern and New Jersey Natural have agreed to a negotiated rate for firm transportation service of up to 100,000 Dth/d under the FT-1 Service Agreement in accordance with the negotiated rate authority contained in section 29 of the General Terms and Conditions of Texas Eastern's FERC Gas Tariff.

There are two ways to become involved in the Commission's review of this project. First, any person wishing to obtain legal status by becoming a party to the proceedings for this project should, on or before December 28, 2001, file with the Federal Energy Regulatory Commission, 888 First Street, NE., Washington, DC 20426, a motion to intervene in accordance with the requirements of the Commission's rules of practice and procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commenters will be placed on the Commission's environmental mailing list, will receive copies of the environmental documents, and will be notified of meetings associated with the Commission's environmental review process. Environmental commenters will not be required to serve copies of filed documents on all other parties. However, the non-party commenters will not receive copies of all documents filed by other parties or issued by the Commission (except for the mailing of environmental documents issued by the Commission) and will not have the right to seek court review of the Commission's final order.

The Commission may issue a preliminary determination on non-environmental issues prior to the completion of its review of the environmental aspects of the project. This preliminary determination typically considers such issues as the need for the project and its economic effect on existing customers of the applicant, on other pipelines in the area, and on landowners and communities. For example, the Commission considers the extent to which the applicant may need to exercise eminent domain to obtain rights-of-way for the proposed project and balances that against the non-environmental benefits to be provided by the project. Therefore, if a person has comments on community and landowner impacts from this proposal, it is important either to file comments or to intervene as early in the process as possible.

Comments, protests, and interventions may be filed electronically via the Internet in lieu of paper. See, 18 CFR 385.2001(a)(1)(iii) and the instructions on the Commission's Web site under the “e-Filing” link.

If the Commission decides to set the application for a formal hearing before an Administrative Law Judge, the Commission will issue another notice describing that process. At the end of the Commission's review process, a final Commission order approving or denying a certificate will be issued.

Linwood A. Watson, Jr.,
Acting Secretary.

[FR Doc. 01-30797 Filed 12-12-01; 8:45 am]

BILLING CODE 6717-01-P